DEPARTMENT OF LABOR

Vacancy Posting: Member of the Administrative Review Board

Summary of Duties: The incumbents exercise completely independent judgment in considering and deciding appeals and other matters which come before the Boards required by law and any applicable regulations. They sign decisions with which they agree or take such action as appropriate including that of writing concurring and/or dissenting opinions. Also included there in are the following responsibilities, exercised by the Chair and the Board Members: establishing general policies for the Board's operations; participation at Board case conferences and at oral argument; and other responsibilities necessary for the orderly and efficient disposition of all matters properly before the Board.

Appointment Type: Excepted—The term of appointment is for four years or less and may be extended.

Qualifications: The applicant should be well versed in law and the appeals process as well as have the ability to interpret regulations and to come to a consensus to determine an overall appeals determination with members of board. This position has a Positive Education Requirement. Applicants must possess a J.D. and will be required to provide an original copy of their transcripts if selected. Applicants are required to be active members of the Bar in any US State or US Territory Court under the U.S. Constitution. Documentation of Bar License will be required before selection.

To Be Considered: A detailed resume is required to be considered for this vacancy announcement.

Closing Date: Resumes must be submitted by 11:59 p.m. EDT on August 28, 2023. Resumes must be submitted to: white.robert.t@dol.gov, phone: 202-693-2457. This is not a toll-free number.

Carolyn Angus-Hornbuckle,
Acting Assistant Secretary for Administration & Management.

[FR Doc. 2023-15974 Filed 7-27-23; 8:45 am]

BILLING CODE 4510-HW-P